SECURITIES AND EXCHANGE COMMISSION

[SEC File No. 270-418, OMB Control No. 3235-0485]

Submission for OMB Review; Comment Request

Upon Written Request, Copies Available From: Securities and Exchange Commission, Office of FOIA Services, 100 F Street NE, Washington, DC 20549-2736

Extension:

Rule 15c2-1.

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 15c2-1, (17 CFR 240.15c2-1), under the Securities Exchange Act of 1934 (15 U.S.C. 78a et seq.).

Rule 15c2-1 (17 CFR 240.15c2-1) prohibits the commingling under the same lien of securities of margin customers (a) with other customers without their written consent and (b) with the broker-dealer. The rule also prohibits the re-hypothecation of customers' margin securities for a sum in excess of the customer's aggregate indebtedness. Pursuant to Rule 15c2-1, respondents must collect information necessary to prevent the re-hypothecation of customer securities in contravention of the rule, issue and retain copies of notices of hypothecation of customer securities in accordance with the rule, and collect written consents from customers in accordance with the rule. The information is necessary to ensure compliance with the rule and to advise customers of the rule's protections.

There are approximately 48 respondents (i.e., broker-dealers that conducted business with the public, filed Part II or Part IICSE of the FOCUS Report, did not claim an exemption from the Rule 15c3-3 reserve formula computation, and reported that they had a bank loan during at least one quarter of the current year) that require an aggregate total of approximately 1,080 hours to comply with the rule. Each of these approximately 48 registered broker-dealers makes an estimated 45 annual responses. Each response takes approximately 0.5 hours to complete. Thus, the total burden per year is approximately 1,080 hours.

The retention period for the recordkeeping requirement under Rule 15c2-1 is not less than two years following the date the notice is submitted. The recordkeeping requirement under this rule is mandatory to assist the Commission in monitoring the respondent who fail to collect the information set by the Commission rule. This rule does not involve the collection of confidential information.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent within 30 days of publication of this notice to (i) www.reginfo.gov/public/do/PRAMain and (ii) David Bottom, Director/Chief Information Officer, Securities and Exchange Commission, c/o Cynthia Roscoe, 100 F Street NE, Washington, DC 20549, or by sending an email to: PRA_Mailbox@sec.gov.

Dated: March 2, 2021.
J. Matthew DeLesDernier,
Assistant Secretary.

[FR Doc. 2021-04658 Filed 3-5-21; 8:45 am]

BILLING CODE 8011-01-P